ENVIRONMENTAL PROTECTION AGENCY

[ER-FRL-9003-5]

Environmental Impacts Statements; Notice of Availability

Responsible Agency: Office of Federal Activities, General Information (202) 564-7146 or http://www.epa.gov/compliance/nepa/.

Weekly receipt of Environmental Impact Statements

Filed 06/04/2012 through 06/08/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120182, Final EIS, BLM, NM, Alamogordo Regional Water Supply Project, Construction and Operation Groundwater Wells and Conveyance System, Right-of-Way Application, Otero County, NM, Review Period Ends: 07/16/2012, Contact: Douglas Haywood 575-525-4412.

EIS No. 20120183, Final EIS, USAF, 00, F-35A Training Basing, To Base a Pilot Training Center with the Beddown of F-35A Training Aircraft at four Alternative Bases, Boise AGS, Holloman AFD, Luke AFB, and Tucson AGS, ID, AZ, NM, Review Period Ends: 07/16/2012, Contact: Kim Fornof 210-652-1961.

EIS No. 20120184, Draft EIS, NOAA, 00, Issuing Annual Quotas to the Alaska Eskimo Whaling Commission (AEWC) for a Subsistence Hunt on Bowhead Whales for the Years 2013 through 2017/2018, Comment Period Ends: 08/14/2012, Contact: Ellen Sebastian 907-586-7247.

EIS No. 20120185, Draft EIS, VCT, NM, Valles Caldera National Preserve, Public Use and Access Plan, Implementation, Sandoval and Arriba Counties, NM, Comment Period Ends: 08/14/2012, Contact: Marie Rodriquez 505-660-3333.

EIS No. 20120186, Final EIS, BLM, AZ, Lower Sonoran and Sonoran Desert National Monument, Resource Management Plan, To Provide Guidance for Managing the Use of Public Lands and Provide a Framework for Future Land Management Actions, Maricopa, Pinal, Pima, Gila and Yuma Counties, AZ, Review Period Ends: 07/16/2012, Contact: Chris Horyza 623-580-5528.

EIS No. 20120187, Final EIS, USFS, CA, Pettijohn Late-Successional Reserve Habitat Improvement and Fuels Reduction Project, Implementation, Trinity River Management, Trinity Unit of the Shasta-Trinity National Recreation Area, Trinity County, CA, Review Period Ends: 07/16/2012, Contact: Keli McElroy 530-226-2354.

EIS No. 20120188, Draft EIS, USFS, SD, Calumet Project Area, Multiple Resource Management Actions, Implementation, Pennington County, SD, Comment Period Ends: 07/30/2012, Contact: Lou Conroy 605-343-1567.

EIS No. 20120189, Final EIS, USACE, CA, Berths 302-306 American Presidents Line (APL) Container Terminal Project, Construction and Operation, US Army COE Section 10 and Section 103 of the Marine Protection Research and Sanctuaries Act, Los Angeles County, CA, Review Period Ends: 07/16/2012, Contact: Theresa Stevens 805-585-2146.

EIS No. 20120190, Draft EIS, NOAA, 00, Harvest Specifications and Management Measures for the 2013-2014 Pacific Coast Groundfish Fishery and Amendment 21-2 to the Pacific Coast Fishery Management Plan, Implementation, off the Coast of WA, OR, and CA, Comment Period Ends: 07/30/2012, Contact: Becky Renko 206-526-6110.

EIS No. 20120191, Draft EIS, USACE, CO, Chatfield Reservoir Storage Reallocation, To Reallocate 20,600 acre-feet of Storage from the Exclusive Flood Control Pool to the Conservation Pool, Funding, Adams/Weld County Line, CO, Comment Period Ends: 08/14/2012, Contact: Gwyn Jarrett 402-995-2717.

Amended Notices

EIS No. 20120180, Final EIS, USN, HI, Basing of MV-22 and H-1 Aircraft in Support of III Marine Expeditionary Force (MEF) Elements, Construction and Renovation of Facilities to Accommodate and Maintain the Squadrons, HI, Review Period Ends: 07/11/2012, Contact: 808-472-1196.

Revision of FR Notice Published 06/8/2012; Correction to Comment Period Ends 07/11/2012.

Dated: June 12, 2012.
Cliff Rader,
Director, NEPA Compliance Division, Office of Federal Activities.

[FR Doc. 2012-14721 Filed 6-14-12; 8:45 am]

BILLING CODE 6560-50-P